DEPARTMENT OF COMMERCE

National Oceanic and Atmospheric Administration

RIN 0648-XE791

North Pacific Fishery Management Council; Public Meeting

AGENCY: National Marine Fisheries Service (NMFS), National Oceanic and Atmospheric Administration (NOAA), Commerce.

ACTION: Notice of teleconference.

SUMMARY: The North Pacific Fishery Management Council (Council) Electronic Monitoring Workgroup (EMWG) will hold a teleconference on August 25, 2016.

DATES: The meeting will be held on Thursday, August 25, 2016, from 8 a.m. to 5 p.m. (Alaska Time).

ADDRESSES: The meeting will be held telephonically at the following number: (907) 271-2896.

Council address: North Pacific Fishery Management Council, 605 W. 4th Ave., Suite 306, Anchorage, AK 99501-2252; telephone (907) 271-2809.

FOR FURTHER INFORMATION CONTACT: Diana Evans, Council staff; telephone: 907-271-2809.

SUPPLEMENTARY INFORMATION:

Agenda

Thursday, August 25, 2016

The agenda will include an update on the 2016 pre-implementation program, review EM integration initial review draft analysis, review of the 2017 pre-implementation proposal, and other business and scheduling. The Agenda is subject to change, and the latest version will be posted at http://www.npfmc.org/.

Special Accommodations

The meeting is physically accessible to people with disabilities. Requests for sign language interpretation or other auxiliary aids should be directed to Shannon Gleason at (907) 271-2809 at least 7 working days prior to the meeting date.

Dated: August 3, 2016.
Tracey L. Thompson,
Acting Deputy Director, Office of Sustainable Fisheries, National Marine Fisheries Service.

[FR Doc. 2016-18776 Filed 8-8-16; 8:45 am]

BILLING CODE 3510-22-P